DEPARTMENT OF AGRICULTURE

Forest Service

Eastern Region Recreation Resource Advisory Committee

AGENCY: Forest Service, USDA.

ACTION: Notice of meeting.

SUMMARY: The Eastern Region Recreation Resource Advisory Committee (Recreation RAC) will meet in Milwaukee, Wisconsin. The Recreation RAC is established consistent with the Federal Advisory Committee Act of 1972, and the Federal Lands Recreation Enhancement Act. Additional information concerning the Recreation RAC, including details on all fee proposals, can be found by visiting the Recreation RAC's website at: http://www.fs.usda.gov/main/r9/recreation/racs.

DATES: The meeting will be held on the following dates:

• Thursday, March 14, 2019, from 1:00 p.m. to 5:00 p.m., and

• Friday, March 15, 2019, from 8:00 a.m. to 12:00 p.m.

All Recreation RAC meetings are subject to cancellation. For updated status of the meeting prior to attendance, please contact the person listed under FOR FURTHER INFORMATION CONTACT.

ADDRESSES: The meeting will be held at the Forest Service—Eastern Regional Office, 626 East Wisconsin Avenue, Milwaukee, Wisconsin. The meeting will be available via teleconference. Visit the Recreation RAC's website at: http://www.fs.usda.gov/main/r9/recreation/racs for call-in information.

Written comments may be submitted as described under SUPPLEMENTARY INFORMATION. All comments, including names and addresses, when provided, are placed in the record and available for public inspection and copying. The public may inspect comments received at the Forest Service—Eastern Regional Office. Please call ahead at 541-860-8048 to facilitate entry into the building.

FOR FURTHER INFORMATION CONTACT: Joanna Wilson, Eastern Region Recreation RAC Coordinator, by phone at 541-860-8048 or by email at jwilson08@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

(1) Review the following fee proposals:

a. Regional streamline fee proposal by the Recreation Resource Advisory Committee,

b. Monongahela National Forest fee proposals which includes fee increases for Bear Heaven Campground, Laurel Fork Campground, and Red Creek Campground. The proposal also includes a proposed new fee for a daily reservation at Seneca Rocks Picnic Shelter; and

c. Huron Manistee National Forest fee proposal for new fees Red Bridge Access, Sulak Recreation Area, McKinley Horse Trail Campsites, Buttercup Backcountry Campsites, Cathedral Pines Backcountry Group Campsite, Meadow Springs Backcountry Campsites, Bear Island Backcountry Campsites, River Dune Backcountry Campsites, Luzerne Horse Trail Campground, Government Landing Access Campsites, and Upper Manistee River Backcountry Campsites. New group campground fees are proposed for the group sites at AuSable Loop Recreation Area Campground, Mack Lake ORV Campground, Kneff Lake Recreation Area, Gabions Campground, McKinley Horse Trail Campground, Luzerne Horse Trail Campground, and River Road Horse Trail Camp.

The meeting is open to the public. The agenda will include time for people to make oral statements of three minutes or less. Individuals wishing to make an oral statement should request in writing by March 1, 2019, to be scheduled on the agenda. Anyone who would like to bring related matters to the attention of the Recreation RAC may file written statements with the Recreation RAC's staff before or after the meeting. Written comments and time requests for oral comments must be sent to Joanna Wilson, Eastern Region Recreation RAC Coordinator, 221 North 780 East, Salem, Utah 84653; or by email to jwilson08@fs.fed.us.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case-by case basis.

Dated: February 4, 2019.
Allen Rowley,
Acting Associate Deputy Chief, National Forest System.

[FR Doc. 2019-02981 Filed 2-20-19; 8:45 am]

BILLING CODE 3411-15-P